DEPARTMENT OF ENERGY

Federal Energy Regulatory Commission

Notice of Application for Amendment of License and Soliciting Comments, Motions To Intervene, and Protests

April 10, 2006.

Take notice that the following application has been filed with the Commission and is available for public inspection:

a. Application Type: Application for Amendment of License to Use the Project Water and Lands.

b. Project No.: 405-068.

c. Date Filed: March 24, 2006.

d. Applicant: Susquehanna Power Company and PECO Energy Power Company.

e. Name of Project: Conowingo Hydroelectric Project.

f. Location: The project is located on the Susquehanna River in Hartford and Cecil Counties in Maryland, and York and Lancaster Counties in Pennsylvania.

g. Filed Pursuant to: Federal Power Act, 16 U.S.C. 791a-825r.

h. Applicant Contact: H. Alfred Ryan, Assistant General Counsel, Exelon Business Services Company, 2301 Market Street, Philadelphia, Pennsylvania 19101-8609, Tel: (215) 841-6855, Fax: (215)568-3389, E-Mail: halfred.ryan@exeloncorp.com.

Brian J. McManus, Jones Day, 51 Louisiana Avenue, NW., Washington, DC 20001-2113, Tel: (202) 879-5452, Fax: (202) 626-1700, E-Mail: bjmcmanus@jonesday.com.

i. FERC Contact: Any questions on this notice should be addressed to Mr. Jake Tung at (202) 502-8757, or e-mail address: hong.tung@ferc.gov.

j. Deadline for filing comments and or motions: May 8, 2006.

k. Description of Request: The licensees filed for Commission approval of an agreement between licensees and Conectiv Mid Merit, LLC (CMM) for use of the project's reservoir and lands for the withdrawal and discharge of water necessary to support CMM's combined cycle electric power generating plant, to be built and operated in Peach Bottom Township, York County, Pennsylvania. CMM plans to withdraw water from the Conowingo Reservoir for cooling and process water by constructing a water supply pipeline from the reservoir to the plant. The water intake line will extend approximately 1,000 feet into Conowingo Reservoir. CMM also plans to discharge blowdown from a cooling tower to the Conowingo Reservoir via a water discharge pipeline from the plant to the river. The water discharge line will extend approximately 1,200 feet into Conowingo Reservoir. CMM proposes a maximum daily withdrawal of 19.01 million gallons per day (mgd), with an expected return flow of 10.29 mgd, for a total maximum consumptive use of 8.72 mgd of water.

l. Locations of Applications: A copy of the application is available for inspection and reproduction at the Commission in the Public Reference Room, located at 888 First Street NE., Room 2A, Washington DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call toll-free 1-866-208-3676 or e-mail FERCOnlineSupport@ferc.gov. For TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, or “MOTION TO INTERVENE”, as applicable, and the Project Number of the particular application to which the filing refers. All documents (original and eight copies) should be filed with: Magalie R. Salas, Secretary, Federal Energy Regulatory Commission, 888 First Street, NE., Washington DC 20426. A copy of any motion to intervene must also be served upon each representative of the Applicant specified in the particular application.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Magalie R. Salas,
Secretary.

[FR Doc. E6-5619 Filed 4-14-06; 8:45 am]

BILLING CODE 6717-01-P